ENVIRONMENTAL PROTECTION AGENCY

[EPA-HQ-OPP-2011-0004; FRL-9332-8]

Pesticide Products; Registration Applications

AGENCY: Environmental Protection Agency (EPA).

ACTION: Notice.

SUMMARY: EPA has received applications to register pesticide products containing active ingredients not included in any previously registered pesticide products. Pursuant to the provisions of section 3(c)(4) of the Federal Insecticide, Fungicide, and Rodenticide Act (FIFRA), EPA is hereby providing notice of receipt and opportunity to comment on these applications.

DATES: Comments must be received on or before March 30, 2012.

ADDRESSES: Submit your comments, identified by the docket identification (ID) number and the file symbol(s) for the product(s) of interest as listed in Unit II., by one of the following methods:

• Federal eRulemaking Portal: http://www.regulations.gov. Follow the on-line instructions for submitting comments.

• Mail: Office of Pesticide Programs (OPP) Regulatory Public Docket (7502P), Environmental Protection Agency, 1200 Pennsylvania Ave. NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the file symbol(s) for the product(s) of interest as listed in Unit II. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

The Regulatory Action Leader or Product Manager listed in the table in this unit:

Regulatory action leader or product manager | Telephone number and Email address | Mailing address | File symbol
Menyon Adams | (703)347-8496 adams.menyon@epa.gov | Biopesticides and Pollution Prevention Division (7511P), Office of Pesticide Programs, Environmental Protection Agency, 1200 Pennsylvania Ave. NW., Washington, DC 20460-0001 | 84876-R
Gina Burnett | (703)605-0513 burnett.gina@epa.gov | Do | 51934-RE, 51934-RG, 51934-RL, 51934-RU, 52991-ET
Leonard Cole | (703)305-5412 cole.leonard@epa.gov | Do | 84889-E
Jeannine Kausch | (703)347-8920 kausch.jeannine@epa.gov | Do | 88347-R, 88347-E
Mike Mendelsohn | (703)308-8715 mendelsohn.mike@epa.gov | Do | 29964-RT
Thomas Harris | (703)308-9423 harris.thomas@epa.gov | Registration Division (7505P), Office of Pesticide Programs, Environmental Protection Agency, 1200 Pennsylvania Ave. NW., Washington, DC 20460-0001 | 352-ILA, 352-ILT, 352-ILO, 352-IAN, 352-ILI, 352-IAT, 352-IAE, 352-IAI, 352-IAL, 352-IAG, 352-IAA, 100-RUER, 100-RUEE, 100-RUEG, 100-RUEU, 100-RUEN, 100-RURI

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. EPA may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register pesticide products containing active ingredients not included in any previously registered pesticide products. Pursuant to the provisions of section 3(c)(4) of FIFRA, EPA is hereby providing notice of receipt and opportunity to comment on these applications. Notice of receipt of these applications does not imply a decision by EPA on these applications.

1. File symbols: DuPont-352-ILA, 352-ILT, 352-ILO, 352-IAN, 352-ILI, 352-IAT, 352-IAE, 352-IAI, 352-IAL, 352-IAG, and 352-IAA; Syngenta—100-RUER, 100-RUEE, 100-RUEG, 100-RUEU, 100-RUEN, and 100-RURI. Docket number: EPA-HQ-OPP-2011-0668. Applicants: E.I. du Pont de Nemours & Co., 1007 Market St., Wilmington, DE 19898 and Syngenta Crop Protection LLC, P.O. Box 18300, Greensboro, NC 27419. Product names: DuPont—Cyazypyr Technical, Benevia Insect Control, Exirel Insect Control, Verimark Insect Control, Dermacor Z-103 Insecticide Seed Treatment, Dermacor Z-151 Insecticide Seed Treatment, HGW86 Fly Control Bait, HGW86 SC Insect Control, HGW86 T & O Insect Control, HGW86 GH & N Insect Control, and HGW86 Tree Injection Insect Control; Syngenta—A16901B CP Insecticide, Mainspring Insecticide, A16901B Residential Insecticide, A16901B TURF, A17960A ST Insecticide, and A17960B ST Insecticide. Active ingredient: Insecticide with Cyantraniliprole at 0.5—96.7%. Proposed classification/Use: Tuberous and corm vegetables (crop subgroup 1C); bulb vegetables (crop group 3-07); leafy vegetables (except brassica vegetables) (crop group 4); brassica (cole) leafy vegetables (crop group 5); fruiting vegetables (crop group 8-10); cucurbit vegetables (crop group 9); citrus fruits (crop group 10-10); pome fruits (crop group 11-10); stone fruits (crop group 12); berries and small fruits, bushberries (crop subgroup 13-07B); tree nuts (crop group 14); oilseeds (crop group 20); processed commodities; animal commodities; turf; ornamentals; residential, commercial, industrial, and agricultural structures. (T. Harris).

2. File symbol: 29964-RT. Docket number: EPA-HQ-OPP-2011-1015. Applicant: Pioneer Hi-Bred International, Inc., P.O. Box 1000, Johnston, IA 50131-1000. Product name: 4114 Maize. Active ingredient: Plant-Incorporated Protectant with Bacillus thuringiensis Cry1F protein and the genetic material (PHP27118 T-DNA) necessary for its production in Event DP-ØØ4114-3 corn and Bacillus thuringiensis Cry34Ab1 and Cry35Ab1 proteins and the genetic material (PHP27118 T-DNA) necessary for their production in Event DP-ØØ4114-3 corn at less than 0.1%. Proposed classification/Use: Seed increase/breeding use in corn. (M. Mendelsohn).

3. File symbol: 51934-RE. Docket number: EPA-HQ-OPP-2011-1031. Applicant: Trece, Inc., 7569 Hwy. 28 W, Adair, OK 74330. Product name: Cidetrak® DA MEC. Active ingredient: Mating Disruptant with Ethyl-2E,4Z-Decadienoate at 5.0%. Proposed classification/Use: Mating disruptant to control codling moth; as an enhancement to be mixed with insecticides or codling moth (Cydia pomonella) pheromone formulations. (G. Burnett).

4. File symbol: 51934-RG. Docket number: EPA-HQ-OPP-2011-1031. Applicant: Trece, Inc., 7569 Hwy. 28 W, Adair, OK 74330. Product name: Cidetrak® CMDA 90/60. Active ingredient: Mating Disruptant with Ethyl-2E,4Z-Decadienoate at 1.2%. Proposed classification/Use: Mating disruptant to control codling moth (Cydia pomonella) and hickory shuckworm (Cydia caryana). (G. Burnett).

5. File symbol: 51934-RL. Docket number: EPA-HQ-OPP-2011-1031. Applicant: Trece, Inc., 7569 Hwy. 28 W, Adair, OK 74330. Product name: Cidetrak® CMDA 185/60. Active ingredient: Mating Disruptant with Ethyl-2E,4Z-Decadienoate at 1.2%. Proposed classification/Use: Mating disruptant to control codling moth (Cydia pomonella) and hickory shuckworm (Cydia caryana). (G. Burnett).

6. File symbol: 51934-RU. Docket number: EPA-HQ-OPP-2011-1031. Applicant: Trece, Inc., 7569 Hwy. 28 W, Adair, OK 74330. Product name: Cidetrak® CMDA 115/30. Active ingredient: Mating Disruptant with Ethyl-2E,4Z-Decadienoate at 0.06%. Proposed classification/Use: Mating disruptant to control codling moth (Cydia pomonella) and hickory shuckworm (Cydia caryana). (G. Burnett).

7. File symbol: 52991-ET. Docket number: EPA-HQ-OPP-2011-1031. Applicant: Bedoukian Research, Inc., 21 Finance Dr., Danbury, CT 06810. Product name: Bedoukian Pear Ester Technical. Active ingredient: Mating Disruptant with Ethyl-2E,4Z-Decadienoate at 93.4%. Proposed classification/Use: Manufacturing use. (G. Burnett).

8. File symbol: 84876-R. Docket number: EPA-HQ-OPP-2011-1027. Applicant: Bert Volger, Authorized Agent, Ceres International LLC, on behalf of Consumo Em Verde S.A., Plant Biotechnology, Technology Park in Cantanhede, Lot 2, 3060-197 Cantanhede, Portugal. Product name: PROBLAD PLUS. Active ingredient: Fungicide with BLAD (20 kDa Polypeptide of Beta-Conglutin) at 20%. Proposed classification/Use: Agricultural use on grapes, strawberries, tomatoes, almonds, stone fruit, and ornamentals. (M. Adams).

9. File symbol: 84889-E. Docket number: EPA-HQ-OPP-2012-0128. Applicant: Rode-Trol LLC, 35801 Rd. 132, Visalia, CA 93292. Product name: Rode-Trol. Active ingredient: Rodenticide with Cellulose at 40.5%. Proposed classification/Use: Rodent control. (L. Cole).

10. File symbol: 88347-E. Docket number: EPA-HQ-OPP-2011-0862. Applicant: Phyllom LLC, 922 San Leandro Ave., Suite F, Mountain View, CA 94043. Product name: Phyllom grubGONE! Granular (G). Active ingredient: Insecticide with Bacillus thuringiensis subsp. galleriae strain SDS-502 at 0.6%. Proposed classification/Use: For annual white grub control in turf and ornamentals. (J. Kausch).

11. File symbol: 88347-R. Docket number: EPA-HQ-OPP-2011-0862. Applicant: Phyllom LLC, 922 San Leandro Ave., Suite F, Mountain View, CA 94043. Product name: Phyllom SDS-502 MP. Active ingredient: Insecticide with Bacillus thuringiensis subsp. galleriae strain SDS-502 at 6.0%. Proposed classification/Use: Manufacturing use. (J. Kausch).

List of Subjects

Environmental protection, Pesticides and pest.

Dated: February 16, 2012.
Keith A. Matthews,
Director, Biopesticides and Pollution Prevention Division, Office of Pesticide Programs.

[FR Doc. 2012-4848 Filed 2-28-12; 8:45 am]

BILLING CODE 6560-50-P